ENVIRONMENTAL PROTECTION AGENCY

[EPA-HQ-OECA-2012-0956; FRL-9773-8]

Public Comment on EPA's National Enforcement Initiatives for Fiscal Years 2014-2016

AGENCY: Environmental Protection Agency (EPA).

ACTION: Notice of public comment period.

SUMMARY: The Environmental Protection Agency (EPA) is soliciting public comment and recommendations on national enforcement initiatives to be undertaken in fiscal years 2014-2016. EPA selects these priority areas every three years in order to focus federal resources on the most important environmental problems where noncompliance is a significant contributing factor and where federal enforcement attention can make a difference. For the FY 2011-2013 time period, the U.S. Environmental Protection Agency, Office of Enforcement and Compliance Assurance, has six national enforcement initiatives. These initiatives are (1) Municipal Infrastructure—addressing sewage discharges from combined sewer systems, sanitary sewer systems, and municipal separate storm sewer systems; (2) Mineral Processing—addressing hazardous waste at phosphoric acid facilities and high risk mineral processing sites; (3) New Source Review—controlling emissions from coal fired utility sector, cement plants, glass plants, and acid production plants; (4) Air Toxics—addressing toxic emissions from high risk facilities by examining leak detection and repair (LDAR), flares, and excess emission sources; (5) Energy Extraction—addressing land-based natural gas extraction facilities, including corporate-wide evaluations; and (6) Concentrated Animal Feeding Operations—addressing animal waste discharges from large animal feeding facilities. For more information on the current initiatives, full descriptions can be found on our Web site: http://www.epa.gov/compliance/data/planning/initiatives/index.html.

In addition to these sector-based approaches, EPA could choose to focus a national initiative on a strategic area that would improve the Agency's ability to conduct its enforcement and compliance program. For example, EPA is investing in a new approach called Next Generation Compliance to dramatically improve compliance by, among other things, employing advances in emissions monitoring and information technology; expanding transparency by making information publicly available. This availability of information will empower communities to play an active role in compliance oversight and improve the performance of both the government and regulated entities.

The public is invited to comment on extending the current six national enforcement initiatives for the 2014-2016 cycle. The public is also invited to propose new sectors or other important strategic areas for consideration. Commenters should keep in mind the Agency's resource constraints, given that final decisions will need to consider the Agency's funding level. Final selection will be incorporated into the EPA Office of Enforcement and Compliance Assurance Final National Program Manager Guidance (that provides national program direction for all EPA regional offices) to be released in the Spring 2013. EPA will consider these comments as it moves forward in the decision-making process, but will not respond to all comments received.

DATES: Comments must be received on or before February 27, 2013.

ADDRESSES: Information in support of this Notice of Public Comment is available via the Internet at: http://www.epa.gov/compliance/data/planning/initiatives/index.html.

Submit your comments via www.regulations.gov, identified by Docket ID No. EPA-HQ-OECA-2012-0956. Follow the on-line instructions for submitting comments.

Instructions: Direct your comments to Docket ID No. EPA-HQ-OECA-2012-0956. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

FOR FURTHER INFORMATION CONTACT: Michele McKeever, Branch Chief, National Planning and Measures Branch, Office of Enforcement and Compliance Assurance, Mail Code: M2221A, Environmental Protection Agency, 1200 Pennsylvania Ave. NW., Washington, DC 20460; telephone number: 202-564-3688; fax number: 202-564-0027; email address: McKeever.Michele@epa.gov.

SUPPLEMENTARY INFORMATION:

I. What are EPA enforcement and compliance national enforcement initiatives?

EPA is voluntarily soliciting public comment and recommendations on national enforcement initiatives to be undertaken in fiscal years 2014-2016. EPA selects these initiatives every three years in order to focus federal resources on the most important environmental problems where noncompliance is a significant contributing factor and where federal enforcement attention can make a difference. Sector-based enforcement and compliance national enforcement initiatives are selected according to three criteria: (1) Environmental impact; (2) significant noncompliance; and (3) appropriate federal role. The national enforcement initiatives do not impose any legally binding requirements on any outside parties. EPA will also consider strategic program areas that are not sector-based as potential national enforcement initiatives. These areas include programs such as Next Generation Compliance (e.g., increasing use of advanced emissions monitoring, expanding transparency by increasing data availability, and developing more effective regulations).

II. On what is EPA requesting comment?

EPA's Office of Enforcement and Compliance Assurance is collecting external comment on the current set of national enforcement initiatives and whether there are other new enforcement initiatives or strategic directions of national significance and warranting federal enforcement attention that should be considered. For example, in addition to considering traditional sector-based approaches, EPA is considering broadening the scope of a national enforcement initiative to include innovative programs, such as Next Generation Compliance, where the Agency feels the application of enforcement program resources would help address critical issues. Examples of Next Generation Compliance strategies include moving away from paper reporting to electronic reporting, incorporating compliance drivers into regulations, using advanced environmental monitoring technologies, and increasing transparency by making data more readily accessible. The public is invited to propose any other areas for consideration, keeping in mind the Agency's resource constraints. Please note that some current national enforcement initiatives may be carried forward or refined and continued into FY 2014-2016.

III. Can the deadline for comments be extended?

No. EPA issues National Program Manager Guidance (NPM Guidance) to enable EPA, states, and federally-recognized Indian tribes (tribes) to effectively align their joint implementation of environmental laws to achieve mutual goals. The NPM guidance must be timely released for state, tribal, and public comment in order to allow the states and tribes with approved programs to consider the NPM Guidance fully in their annual planning processes. These processes direct state and tribal resources according to their fiscal calendars. As a result, EPA must receive public comments by February 27, 2013 in order to make national enforcement initiative selections in keeping with this schedule.

Dated: January 18, 2013.
Lisa Lund,
Director, Office of Compliance.

[FR Doc. 2013-01706 Filed 1-25-13; 8:45 am]

BILLING CODE 6560-50-P